GENERAL SERVICES ADMINISTRATION

[OMB Control No. 3090-0121]

Submission for OMB Review; Comment Request Entitled Contractor's Report of Sales

AGENCY: Office of Acquisition Policy, GSA.

ACTION: Notice of request for public comments regarding reinstatement to a previously approved OMB clearance 3090-0121, Contractor's Report of Sales.

SUMMARY: Under the provisions of the Paperwork Reduction Act of 1995 (44 U.S.C. Chapter 35), the General Services Administration, Office of Acquisition Policy has submitted to the Office of Management and Budget (OMB) a request to review and approve a reinstatement of a previously approved information collection requirement concerning Contractor's Report of Sales.

DATES: Comment Due Date: September 17, 2001.

ADDRESSES: Comments regarding this collection of information should be submitted to: Ed Springer, GSA Desk Officer, OMB, Room 10236, NEOB, Washington, DC 20503, and a copy to Stephanie Morris, General Services Administration, Acquisition Policy Division, 1800 F Street, NW., Room 4035, Washington, DC 20405.

FOR FURTHER INFORMATION CONTACT: Beverly Cromer, Office of GSA Acquisition Policy (202) 501-1224.

SUPPLEMENTARY INFORMATION:

A. Purpose

The GSA is requesting the Office of Management and Budget (OMB) to reinstate information collection, 3090-0121, Contractor's Report of Sales. The information is used primarily by contracting officers to estimate requirements for the subsequent year, evaluate the effectiveness of a schedule, negotiate better prices based on volume and for special reports.

B. Annual Reporting Burden

Number of Responses: 9,214.

Total Annual Responses: 184,280.

Percentage of these responses collected electronically: 100.

Average hours per response: .0083 hrs.

Total Burden Hours: 1530.

Obtaining Copies of Proposals

Requester may obtain a copy of the proposal from the General Services Administration, Regulatory Secretariat (MVP), 1800 F Street, NW, Room 4035, Washington, DC 20405, telephone (202) 501-4744. Please cite OMB Control No. 3090-0121, Contractor's Report of Sales.

Dated: July 3, 2001.
Gloria M. Sochon,
Acting Deputy Associate Administrator, Office of Acquisition Policy.

[FR Doc. 01-17755 Filed 7-16-01; 8:45 am]

BILLING CODE 6820-61-M